DEPARTMENT OF THE INTERIOR

Bureau of Land Management

[WY-920-1430-ET; WYW 163447]

Notice of Proposed Withdrawal and Opportunity for Public Meeting; Wyoming

AGENCY: Bureau of Land Management, Interior.

ACTION: Notice.

SUMMARY: The Bureau of Land Management has received a petition/application from the United States Fish and Wildlife Service to withdraw approximately 427 acres of public land from surface entry and mining to protect and manage migratory bird and other wildlife values. Day-to-day management functions as to the land would be transferred from the Bureau of Land Management to the Fish and Wildlife Service for inclusion in the Cokeville Meadows National Wildlife Refuge. This notice segregates the land from the public land disposal laws, including mining, for up to two years while various studies and analyses are made to support a final decision on the withdrawal application. The land will remain open to mineral leasing.

DATES: Comments and requests for a public meeting must be received by November 30, 2006.

ADDRESSES: Comments and meeting requests should be sent to the State Director, BLM Wyoming State Office, 5353 Yellowstone Road, P.O. Box 1828, Cheyenne, Wyoming 82003-1828.

FOR FURTHER INFORMATION CONTACT: Janet Booth, BLM Wyoming State Office, 307-775-6124. The relevant case file is available at the above stated address.

SUPPLEMENTARY INFORMATION: The United States Fish and Wildlife Service has filed a petition/application to withdraw the following described public land from settlement, sale, location, or entry under the general land laws, including the mining laws, but not the mineral leasing laws, subject to valid existing rights:

Sixth Principal Meridian

T. 23 N., R. 119 W.,

Sec. 6, lots 22 to 24, inclusive, NE¼SW¼, and that portion of lots 13, 18, and 19 lying east of Wyoming State Highway 16; sec. 18, lot 13.

T. 23 N., R. 120 W.,

Sec. 12, that portion of E½NE¼ and SE¼ lying east of Wyoming State Highway 16;

Sec. 13, that portion of NE¼ lying east of Wyoming State Highway 16;

Sec. 24, lot 7, that portion of lots 5, 13, and 17, and NE¼NW¼ lying east of Wyoming State Highway 16;

Sec. 25, that portion of lot 28 lying east of Wyoming State Highway 16;

Sec. 26, that portion of lot 13 lying east of Wyoming State Highway 16;

Sec. 36, lots 23 to 26, inclusive.

The area described contains 427 acres, more or less, in Lincoln County.

The petition/application has been approved as a withdrawal proposal.

43 CFR 2310.1-3 (e).

The land proposed for withdrawal consists of isolated tracts of public land within the boundary of the Cokeville Meadows National Wildlife (Refuge). The land would be withdrawn from settlement, sale, location, or entry under the general land laws, including the mining laws, but not the mineral leasing laws, to preserve, protect and manage the above described public lands for use as an inviolate sanctuary; for its migratory waterfowl habitat and other migratory bird values; resident big game, small game, fur bearers, and upland game birds; public educational values; public recreational values; and, for any other management purposes, for migratory birds. Day-to-day management functions relative to the land would be transferred by the proposed withdrawal from the Bureau of Land Management to the Fish and Wildlife Service for inclusion in the Refuge. Administrative jurisdiction over the land would remain in the Secretary of the Interior.

For a period of 90 days from the date of publication of this notice, all persons who wish to submit comments, suggestions, or objections in connection with the proposed withdrawal may present their views in writing to the Wyoming State Director of the Bureau of Land Management.

Notice is hereby given that an opportunity for a public meeting is afforded in connection with the proposed withdrawal. All interested persons who desire a public meeting for the purpose of being heard on the proposed withdrawal must submit a written request to the Wyoming State Director within 90 days from the date of publication of this notice. If the authorized officer determines that a public meeting will be held, a notice of the time and place will be published in the Federal Register at least 30 days before the scheduled date of the meeting.

Comments, including names and street addresses of respondents, will be available for public review at the BLM Kemmerer Field Office, 312 Highway 189 North, Kemmerer, Wyoming, during regular business hours. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

A right-of-way or cooperative agreement would not provide the necessary administrative controls to adequately protect, develop and manage the area in conjunction with, and on the same basis as, the rest of the Refuge or for the purposes for which the Refuge was established.

There are no suitable alternative sites as the land described lies within the approved boundary of Cokeville Meadows National Wildlife Refuge.

No additional water rights, other than those currently existing on the lands so described are required, to manage the lands as part of the Cokeville Meadows National Wildlife Refuge.

The proposed withdrawal will be processed in accordance with the regulations set forth in 43 CFR part 2300.

For a period of two years from the date of publication of this notice in the Federal Register, in accordance with 43 CFR 2310.2(a), the land will be segregated from settlement, sale, location and entry under the general land laws including the mining laws, but not the mineral leasing laws, unless the application is denied or canceled or the proposed withdrawal is approved prior to that date.

During the segregative period, the Bureau of Land Management may, after consulting with the U.S. Fish and Wildlife Service, allow uses of a temporary nature that are compatible with the purposes for which Cokeville Meadows National Wildlife Refuge was established.

(Authority: 43 CFR 2310.2)

Dated: July 10, 2006.
Michael Madrid,
Chief, Branch of Fluid Mineral Operations, Lands and Appraisal.

[FR Doc. E6-14553 Filed 8-31-06; 8:45 am]

BILLING CODE 4310-22-P